DEPARTMENT OF THE TREASURY

Office of Foreign Assets Control

Additional Identifying Information Associated With Persons Whose Property and Interests in Property Are Blocked Pursuant to the Executive Order of September 28, 2010, “Blocking Property of Certain Persons With Respect to Serious Human Rights Abuses by the Government of Iran and Taking Certain Other Actions”

AGENCY: Office of Foreign Assets Control, Treasury.

ACTION: Notice.

SUMMARY: The Treasury Department's Office of Foreign Assets Control (“OFAC”) is publishing additional identifying information associated with the eight individuals listed in the Annex to the Executive Order of September 28, 2010, “Blocking Property of Certain Persons With Respect to Serious Human Rights Abuses by the Government of Iran and Taking Certain Other Actions,” whose property and interests in property are therefore blocked.

FOR FURTHER INFORMATION CONTACT: Assistant Director, Compliance Outreach & Implementation, Office of Foreign Assets Control, Department of the Treasury, 1500 Pennsylvania Avenue NW., (Treasury Annex), Washington, DC 20220, Tel.: 202-622-2490.

SUPPLEMENTARY INFORMATION:

Electronic and Facsimile Availability

This document and additional information concerning OFAC are available from OFAC's Web site (www.treas.gov/ofac) or via facsimile through a 24-hour fax-on-demand service, Tel.: 202-622-0077.

Background

On September 28, 2010, the President issued the Executive Order “Blocking Property of Certain Persons With Respect to Serious Human Rights Abuses by the Government of Iran and Taking Certain Other Actions” (the “Order”) pursuant to, inter alia, the International Emergency Economic Powers Act (50 U.S.C. 1701-06) (IEEPA) and the Comprehensive Iran Sanctions, Accountability, and Divestment Act of 2010 (Pub. L. 111-195). In the Order, the President took additional steps with respect to the national emergency declared in Executive Order 12957 of March 15, 1995.

Section 1 of the Order blocks, with certain exceptions, all property and interests in property that are in the United States, that come within the United States, or that are or come within the possession or control of any United States person, of persons listed in the Annex to the Order and of persons determined by the Secretary of the Treasury, in consultation with or at the recommendation of the Secretary of State, to satisfy certain criteria set forth in the Order.

The Annex to the Order lists eight individuals whose property and interests in property are blocked pursuant to the Order. OFAC is publishing additional identifying information associated with those individuals. As noted in the listings below, the property and interests in property of one of those individuals also is blocked pursuant to another OFAC sanctions program. Agents or affiliates of Iran's Islamic Revolutionary Guard Corps whose property and interests in property are blocked pursuant to IEEPA include a reference to the “IRGC” at the end of their listings on OFAC's Specially Designated Nationals and Blocked Persons List (“SDN” list). See 31 CFR 561.201(a)(5) note.

The listings for those individuals on the SDN list now appear as follows:

Individuals

1. JAFARI, Mohammad Ali (a.k.a. JAFARI, Ali; a.k.a. JA'FARI, Mohammad Ali; a.k.a. JAFARI-NAJAFABADI, Mohammad Ali; a.k.a. “JA'FARI, Aziz”), c/o IRGC, Tehran, Iran; DOB 1 Sep 1957; POB Yazd, Iran; Commander-in-Chief, Islamic Revolutionary Guard Corps; Commander, Islamic Revolutionary Guard Corps; Major General; Brigadier Commander (individual) [NPWMD] [IRGC] [IRAN-HR].

2. MAHSOULI, Sadeq (a.k.a. MAHSULI, Sadeq); DOB 1959; POB Orumieh, Iran; Minister of Welfare and Social Security; Former Minister of the Interior and Deputy Commander-in-Chief of the Armed Forces for Law Enforcement (individual) [IRAN-HR].

3. MOHSENI-EJEI, Qolam-Hossein (a.k.a. MOHSENI EJEI, Gholam Hossein); DOB circa 1956; POB Ejiyeh, Iran; Prosecutor-General of Iran; Hojjatoleslam; Former Minister of Intelligence (individual) [IRAN-HR].

4. MORTAZAVI, Saeed (a.k.a. MORTAZAVI, Sa'id); DOB 1967; POB Meibod, Yazd, Iran; Head, Iranian Anti-Smuggling Task Force; Former Prosecutor-General of Tehran (individual) [IRAN-HR].

5. MOSLEHI, Heydar (a.k.a. MOSLEHI, Heidar), Ministry of Intelligence, Second Negarestan Street, Pasdaran Avenue, Tehran, Iran; DOB 1956; POB Isfahan, Iran; Minister of Intelligence; Hojjatoleslam (individual) [IRAN-HR].

6. NAJJAR, Mostafa Mohammad; DOB 1956; POB Tehran, Iran; Minister of the Interior; Deputy Commander-in-Chief of the Armed Forces for Law Enforcement (individual) [IRAN-HR].

7. RADAN, Ahmad-Reza; DOB 1963; alt. DOB 1964; POB Isfahan, Iran; Deputy Chief, National Police; Deputy Police Chief; Brigadier General (individual) [IRAN-HR].

8. TAEB, Hossein (a.k.a. TAEB, Hassan; a.k.a. TAEB, Hosein; a.k.a. TAEB, Hussayn); DOB 1963; POB Tehran, Iran; Deputy Commander for Intelligence, Islamic Revolutionary Guard Corps; Hojjatoleslam; Former Commander of the Basij Forces (individual) [IRGC] [IRAN-HR].

Dated: September 29, 2010.
Adam Szubin,
Director, Office of Foreign Assets Control.

[FR Doc. 2010-24861 Filed 10-4-10; 8:45 am]

BILLING CODE 4811-42-P